DEPARTMENT OF TRANSPORTATION

Surface Transportation Board

[Docket No. FD 35413]

Lancaster & Chester Railroad, LLC—Acquisition and Operation Exemption—Line of Lancaster & Chester Railway Company

AGENCY: Surface Transportation Board, DOT.

ACTION: Correction to Notice of Exemption.

SUMMARY: This document contains a correction to the Notice of Exemption served and published in the Federal Register on Friday, October 15, 2010 (75 FR 63,532-33). In the notice, noncarrier Lancaster & Chester Railroad, LLC (L&C Railroad) seeks to acquire and operate under 49 CFR 1150.31 approximately 62 miles of rail line owned by Class III rail carrier Lancaster & Chester Railway Company. The correction relates to the name of the connecting railroad in the description of the rail line. The notice incorrectly indicated that L&C Railroad would connect with Consolidated Rail Corporation at former Survey Station 0+06 (milepost SG-346+2210) in Chester County, S.C. Instead, L&C Railroad will connect with CSX Transportation, Inc. at the specified station in Chester County.

FOR FURTHER INFORMATION CONTACT: Joseph H. Dettmar, (202) 245-0395. [Assistance for the hearing impaired is available through the Federal Information Relay Service (FIRS) at: (800) 877-8339.]

SUPPLEMENTARY INFORMATION: This notice is related to a concurrently filed notice of exemption also served and published on October 15, 2010 in Gulf & Ohio Railways Holding Co., Inc., H. Peter Claussen and Linda C. Claussen—Continuance in Control Exemption—Lancaster & Chester Railroad, LLC, Docket No. FD 35414, wherein the above parties seek to continue in control of L&C Railroad, upon L&C Railroad's becoming a Class III rail carrier.

Decided: October 28, 2010.
By the Board, Rachel D. Campbell, Director, Office of Proceedings.
Andrea Pope-Matheson,
Clearance Clerk.

[FR Doc. 2010-27975 Filed 11-4-10; 8:45 am]

BILLING CODE 4915-01-P